FEDERAL ELECTION COMMISSION

Sunshine Act Meetings

TIME AND DATE: Wednesday, October 30, 2024, 10:00 a.m.

PLACE: Hybrid Meeting: 1050 First Street NE, Washington, DC (12th Floor) and Virtual.

Note: If you would like to virtually access the meeting, see the instructions below.

STATUS: This meeting will be open to the public. To access the meeting virtually, go to the commission's website www.fec.gov and click on the banner to be taken to the meeting page.

MATTERS TO BE CONSIDERED:

REG 2024-06 (Request to Modify or Redact Contributor Info)—Draft Notice of Proposed Rulemaking

Management and Administrative Matters

CONTACT PERSON FOR MORE INFORMATION: Judith Ingram, Press Officer, Telephone: (202) 694-1220.

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Vicktoria J. Allen,
Deputy Secretary of the Commission.

[FR Doc. 2024-25018 Filed 10-23-24; 4:15 pm]

BILLING CODE 6715-01-P